DEPARTMENT OF DEFENSE

Office of the Secretary

Membership of the Office of the Secretary of Defense Performance Review Board

AGENCY: Department of Defense.

ACTION: Notice.

This notice announces the appointment of the members of the Performance Review Board (PRB) of the Office of the Secretary of Defense, the Joint staff, the U.S. Mission to the North Atlantic Treaty Organization, the Defense Advance Research Projects Agency, the Defense Commissary Agency, the Defense Security Service, the Defense Security Assistance Agency, the Ballistic Missile Defense Organization, the Defense Field Activities and the U.S. Court of Appeals of the Armed Forces. The publication of PRB membership is required by 5 U.S.C. 4314(c)(4).

The Performance Review Board (PRB) provides fair and impartial review of Senior Executive Service performance appraisals and makes recommendations regarding performance ratings and performance awards to the Secretary of Defense.

EFFECTIVE DATE: July 1, 2000.

FOR FURTHER INFORMATION CONTACT: Jeanne Raymos, Executive and Political Personnel Division, Directorate for Personnel and Security, Washington Headquarters Services, Office of the Secretary of Defense, Department of Defense, The Pentagon, (703) 693-8347.

SUPPLEMENTARY INFORMATION: In accordance with 5 U.S.C. 4314(c)(4), the following executive are appointed to the office of the Secretary of Defense PRB: specific PRB panel assignments will be made from this group. Executives listed will serve a one-year renewable term, effective July 1, 2000.

Office of the Secretary of Defense

Chairman

Robert R. Soule

John Ablard

Joseph Angello

Bill Bader

Bruce Baird

Howard Becker

Alan Beckett

Marc J. Berkowitz

Robert Brittigan

Lisa Bronson

Thomas Brunk

Jennifer Buck

Richard Burke

Mark Cancian

Carolyn A. Carmack

Victor F. Ciardello

Michael Cifrino

Sharon Cooper

Judith Ayres Daly

Bruce Dauer

James Dominy

Jeanne B. Fites

Albert Gallant

John F. Gehrig

Claiborne D. Haughton

Charles J. Holland

Sally Horn

Frank Jones

Paul Koffsky

Frank Lalumiere

Glenn F. Lamartin

John R. Landon

J. William Leonard

Maureen Lieschke

George Lotz

Susan Ludlow-MacMurray

J. David Martin

Mary Lou McHugh

Henry McIntrye

Kirk Moberly

Robert Newberry

John Osterholz

James C. Reardon

William Reed

Manfred J. Reinhard

Donna S. Richbourg

Richard Ritter

Cheryl Roby

Deborah Rosenblum

Vincent Roske

John Roth

Gregory L. Schulte

Harry E. Schulte

Robert J. Shue

Nancy L. Spruill

Kent G. Stansberry

Diana Tabler

Robert D. Tate

Robert W. Taylor

Al Volkman

Anne Johnson Winegar

Christopher C. Wright

Karen Yannello

Dated: July 6, 2000.
C. M. Robinson,
Alternate OSD Federal Register Liaison Officer, Department of Defense.

[FR Doc. 00-17658 Filed 7-13-00; 8:45 am]

BILLING CODE 5001-10-P